INTERNATIONAL TRADE COMMISSION

[Investigation No. 332-550]

Trade and Investment Policies in India, 2014-2015

AGENCY: United States International Trade Commission.

ACTION: Rescheduling of public hearing.

SUMMARY: The Commission has rescheduled the public hearing in this investigation from April 7, 2015 to May 5, 2015, in order to allow interested parties to access more recent information in preparing their testimony and pre-hearing briefs and statements.

DATES:

April 21, 2015: Deadline for filing requests to appear at the public hearing.

April 23, 2015: Deadline for filing pre-hearing briefs and statements.

May 5, 2015: Public hearing.

May 12, 2015: Deadline for filing post-hearing briefs and statements.

June 2, 2015: Deadline for filing all other written submissions.

September 24, 2015: Transmittal of Commission report to the Committees.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leaders James Stamps (202-205-3227 or james.stamps@usitc.gov) or Deputy Project Leader Jeff Okun-Kozlowicki (202-205-5991 or jeff.okun.kozlowicki@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Public Hearing: As announced in the notice of institution of the investigation published in the Federal Register on October 31, 2014 (79 FR 64834), the hearing will be held at the U.S. International Trade Commission building, 500 E Street SW., Washington, DC; it will begin at 9:30 a.m. In addition to the hearing date, the deadline dates for filing of requests to appear and pre-hearing and post-hearing briefs and statements have been changed: The deadline for filing requests to appear at the hearing has been changed to April 21, 2015; the deadline for filing pre-hearing briefs and statements has been changed to April 23, 2015; and the deadline for filing post-hearing briefs and statements has been changed to May 12, 2015. All other requirements and procedures set out in the October 31, 2014, notice continue to apply. In the event that, as of the close of business on April 21, 2015, no witnesses are scheduled to appear at the hearing, the hearing will be canceled. Any person interested in attending the hearing as an observer or nonparticipant may call the Secretary to the Commission (202-205-2000) after April 21, 2015 for information concerning whether the hearing will be held.

By order of the Commission.
Issued: February 19, 2015.
William R. Bishop,
Supervisory Hearings and Information Officer.

[FR Doc. 2015-03853 Filed 2-25-15; 8:45 am]

BILLING CODE 7020-02-P